DEPARTMENT OF THE INTERIOR

Fish and Wildlife Service

FWS-R3-ES-2015-N164; FXES11130300000-154-FF03E00000]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered or threatened species unless a Federal permit allows such activity. The Act requires that we invite public comment before issuing these permits.

DATES: We must receive any written comments on or before October 2, 2015.

ADDRESSES: Send written comments by U.S. mail to the Regional Director, Attn: Carlita Payne, U.S. Fish and Wildlife Service, Ecological Services, 5600 American Blvd. West, Suite 990, Bloomington, MN 55437-1458; or by electronic mail to permitsR3ES@fws.gov.

FOR FURTHER INFORMATION CONTACT: Carlita Payne, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR part 17. Submit your written data, comments, or request for a copy of the complete application to the mailing address or email address shown in ADDRESSES.

Permit Applications

Permit Application Number: TE71516B

Applicant: Olsson Associates, Overland Park, KS

The applicant requests a permit to take (capture and release) Topeka shiner (Notropis topeka) in the State of Missouri. Proposed activities are for the recovery and enhancement of survival of the species in the wild.

Permit Application Number: TE71041B

Applicant: Iwona Kuczynska, Richmond Heights, MO

The applicant requests a permit to take (capture and release, conduct non-lethal sampling, radio-tag, and band) Indiana bat (Myotis sodalis) and northern long-eared bat (Myotis septentrionalis) throughout the range of each species. Proposed activities are for the recovery and enhancement of survival of the species in the wild.

Permit Application Number: TE71021B

Applicant: Indiana Department of Natural Resources, Edinburgh, IN

The applicant requests a permit to take (transport, relocate, reintroduce, and augment) northern riffleshell (Epioblasma torulosa rangiana) and clubshell (Pleurobema clava) in the States of Pennsylvania and Indiana. Proposed activities are for the recovery and enhancement of survival of the species in the wild.

Permit Application Number: TE71044B

Applicant: Joshua Hassler, Meadville, PA

The applicant requests a permit to take (capture and release, conduct nonlethal sampling, radio-tag, and band) Indiana bat (Myotis sodalis) and northern long-eared bat (Myotis septentrionalis) throughout the range of each species. Proposed activities are for the recovery and enhancement of survival of the species in the wild.

Permit Application Number: TE11035A

Applicant: Robert Vande Kopple, University of Michigan, Pellston, MI

The applicant requests a renewal to take (capture and release) Hungerford's crawling water beetle (Brychius hungerfordi) throughout the species' range in Michigan and Wisconsin. Proposed activities are for the recovery and enhancement of survival of the species in the wild.

Permit Application Number: TE71737A

Applicant: Huff & Huff, Inc., Oak Brook, IL

The applicant requests a permit renewal, with amendments to the existing permit, to take (capture and release) fanshell (Cyprogenia stegaria), northern riffleshell (Epioblasma torulosa rangiana), pink mucket (Lampsilis abrupta), clubshell (Pleurobema clava), rayed bean (Villosa fabalis), fat pocketbook (Potamilus capax), and rabbitsfoot (Quadrula cylindrica cylindrica), and add the States of Ohio and Illinois. Proposed activities are for the recovery and enhancement of survival of the species in the wild.

Permit Application Number: TE72089B

Applicant: Michigan Technological University, Houghton, MI

The applicant requests a permit renewal to take (capture and release, chemically immobilize, radio collar, track, and salvage) gray wolf (Canis lupus) in the State of Michigan. Proposed activities are for the recovery and enhancement of survival of the species in the wild.

Permit Application Number: TE72093B

Applicant: Rebecca Winterringer, Euclid, OH

The applicant requests a permit to take (capture and release) spectaclecase (Cumberlandia mondonata), fanshell (Cyprogenia stegaria), snuffbox (Epioblasma triquetra), Higgins eye (Lampsilis higginsii), pink mucket pearly mussel (Lampsilis abrupta), sheepnose (Plethobasus cyphyus), fat pocketbook (Potamilus capax), clubshell (Pleurobema clava), rayed bean (Villosa fabalis), rabbitsfoot (Quadrula cylindrica cylindrica), northern riffleshell (Epioblasma torulosa rangiana), purple cat's paw pearlymussel (Epioblasma obliquata obliquata), white cat's paw pearly mussel (Epioblasma obliquata perobliqua), orangefoot pimpleback (Plethobasus cooperianus), speckled pocketbook (Lampsilis streckeri), scaleshell (Leptodea leptodon) and neosho mucket (Lampsilis rafinesqueana) throughout the range of each species. Proposed activities are for the recovery and enhancement of survival of the species in the wild.

Permit Application Number: TE805269

Applicant: Daniel Soluk, University of South Dakota, Vermillion, SD

The applicant requests a permit renewal, with amendments to the existing permit to take (capture and release; collect eggs, larvae, and exuviae) Hine's emerald dragonfly (Somatochlora hineana) in the States of Alabama, Illinois, Michigan, Ohio, and Wisconsin. Proposed activities are for the recovery and enhancement of survival of the species in the wild.

Permit Application Number: TE023666

Applicant: Eric Britzke, U.S. Army Corps of Engineers—ERDC, Clinton, MS

The applicant requests a permit renewal, with amendments to the existing permit to take (capture, handle, radio-tag, and release) northern long-eared bat (Myotis septentrionalis) and add the District of Columbia and the States of Connecticut, Delaware, Louisiana, Maine, Minnesota, Montana, Nebraska, North Dakota, South Dakota, and Wyoming. Proposed activities are for the recovery and enhancement of survival of the species in the wild.

Permit Application Number: TE38860A

Applicant: Jason Garvon, Lake Superior State University, Sault Sainte Marie, MI

The applicant requests a permit renewal to take (harass) piping plover (Charadrius melodus) in the Upper Peninsula of Michigan. Activities are proposed for the conservation and recovery of the species in the wild.

Permit Application Number: TE66634A

Applicant: U.S. Army Corps of Engineers—Memphis District, Memphis, TN

The applicant requests a permit renewal to take (capture and release) spectaclecase (Cumberlandia monodonta), snuffbox (Epioblasma triquetra), Higgins eye (Lampsilis higginsii), pink mucket pearly mussel (Lampsilis abrupta), sheepnose (Plethobasus cyphyus), fat pocketbook (Potamilus capax), rayed bean (Villosa fabalis), rabbitsfoot (Quadrula cylindrica cylindrica), orangefoot pimpleback (Plethobasus cooperianus), scaleshell (Leptodea leptodon), Curtis pearlymussel (Epioblasma florentina curtisii), and winged mapleaf (Quadrula fragosa) in the States of Iowa, Wisconsin, Illinois, and Missouri. Proposed activities are for the recovery and enhancement of survival of the species in the wild.

Permit Application Number: TE70868B

Applicant: Brian Ortman, South Solon, OH

The applicant requests a permit to take (capture and release, conduct nonlethal sampling, radio-tag, and band) Indiana bat (Myotis sodalis) and northern long-eared bat (Myotis septentrionalis) in the States of Indiana, Kentucky, Michigan, Missouri, Ohio, Pennsylvania, and West Virginia. Proposed activities are for the recovery and enhancement of survival of the species in the wild.

Permit Application Number: TE89559A

Applicant: AECOM, Cleveland, OH

The applicant requests a permit renewal, with amendments to the existing permit to take (capture and release, conduct nonlethal sampling, and radio-tag) northern long-eared bat (Myotis septentrionalis), and add the District of Columbia and the States of Connecticut, Delaware, Louisiana, Maine, Minnesota, Montana, Nebraska, North Dakota, South Dakota, and Wyoming. Proposed activities are for the recovery and enhancement of survival of the species in the wild.

Permit Application Number: TE71524B

Applicant: Theresa Morgan, Charleston, WV

The applicant requests a permit renewal with amendments to the existing permit, to take (capture and release) northern long-eared bat in the States of Alabama, Arkansas, Connecticut, Delaware, Georgia, Illinois, Indiana, Kentucky, Maryland, Massachusetts, Michigan, Mississippi, Missouri, New Hampshire, New Jersey, New York, North Dakota, Ohio, Oklahoma, Pennsylvania, Rhode Island, South Carolina, Tennessee, Texas, Vermont, Virginia, West Virginia, and Wisconsin. Proposed activities are for the recovery and enhancement of survival of the species in the wild.

Permit Application Number: TE74488B

Applicant: Missouri Cooperative Research Unit, Columbia, MO

The applicant requests a permit to conduct behavioral research for Topeka shiner (Notropis topeka) in Missouri to determine water quality preferences and tolerances for the purpose of enhancing the species' survival.

Request for Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: August 25, 2015.
Lynn M. Lewis,
Assistant Regional Director, Ecological Services, Midwest Region.

[FR Doc. 2015-21724 Filed 9-1-15; 8:45 am]

BILLING CODE 4310-55-P